DEPARTMENT OF TRANSPORTATION

Federal Aviation Administration

Notice of Intent To Rule on Disposal of Aeronautical Property at Murfreesboro Municipal Airport, Murfreesboro, TN

AGENCY: Federal Aviation Administration (FAA), DOT.

ACTION: Notice.

SUMMARY: The Federal Aviation Administration is requesting public comment on a request by the City of Murfreesboro, to release approximately 1.28 acres of land at the Murfreesboro Municipal Airport from federal obligations. The request consists of 1.28 acres of parcel “1” as shown on the Approved Exhibit A property map. The parcel is situated westward from the terminal area, lying along the south side of the main access road to the airport from Memorial Boulevard (US Highway 231). Parcel “1” was acquired by the City of Murfreeboro by Deed dated May 26, 1947, which included 237.25 acres of the original airport. This request will release 1.28 acres of this property from federal obligations.

DATES: Comments must be received on or before November 21, 2018.

ADDRESSES: Comments on this notice may be mailed or delivered in triplicate to the FAA at the following address: Memphis Airports District Office, Attn: Jamal Stovall, Community Planner, 2600 Thousand Oaks Boulevard, Suite 2250, Memphis, TN 38118.

In addition, one copy of any comments submitted to the FAA must be mailed or delivered to Mr. Chad L. Gehrke, Airport Manager, Murfreesboro Municipal Airport at the following address: Murfreesboro Municipal Airport, 1930 Municipal Boulevard, Murfreesboro, TN 37129.

FOR FURTHER INFORMATION CONTACT: Mr. Jamal Stovall, Community Planner, Federal Aviation Administration, Memphis Airports District Office, 2600 Thousand Oaks Boulevard, Suite 2250, Memphis, TN 38118-2482. The application may be reviewed in person at this same location, by appointment.

SUPPLEMENTARY INFORMATION: The FAA proposes to rule and invites public comment on the request to release property for disposal at the Murfreesboro Municipal Airport, 1930 Memorial Boulevard, Murfreesboro, TN 37129, under the provisions of 49 U.S.C. 47107(h)(2). The FAA determined that the request to release property at the Murfreesboro Municipal Airport, (MBT) submitted by the Sponsor meets the procedural requirements of the Federal Aviation Administration and the release of the property does not and will not impact future aviation needs at the airport. The FAA may approve the request, in whole or in part, no sooner than thirty days after the publication of this notice.

The following is a brief overview of the request:

The City of Murfreesboro is releasing approximately 1.28 acres of property fronting U.S. Highway 231 (Memorial Boulevard) and Airport Road. This request will release this property from federal obligations.

Any person may inspect the request in person at the FAA office listed above under FOR FURTHER INFORMATION CONTACT.

In addition, any person may, upon request, inspect the request, notice and other documents germane to the request in person at the Murfreesboro Municipal Airport, 1930 Memorial Boulevard, Murfreesboro, TN 37129.

This action is taken under the provisions of 49 U.S.C. 47107(h)(2).

Issued in Memphis, Tennessee on October 16, 2018.
Phillip J. Braden,
Manager, Memphis Airports District Office, Southern Region.

[FR Doc. 2018-23011 Filed 10-19-18; 8:45 am]

BILLING CODE 4910-13-P